DEPARTMENT OF LABOR

Office of the Secretary

Submission for OMB Review; Comment Request

September 26, 2002.

The Department of Labor (DOL) has submitted the following public information collection request (ICR) to Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 693-4158 or e-mail Howze-Marlene@dol.gov.

Comments should be sent to Office of Information and Regulatory Affairs, Att: OMB Desk Officer for BLS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Reinstatement, with change, of a previously approved collection for which approval has expired.

Agency: Bureau of Labor Statistics (BLS).

Title: National Longitudinal Survey of Women.

OMB Number: 1220-0110.

Affected Public: Individuals or households.

Frequency: Biennially.

Estimated Time Per Response and Total Burden Hours:

Form | Number of respondents | Total annual responses | Estimated minutes/response | Total annual burden (Hours)
2003 NLSW Pretest | 50 | 50 | 70 | 58
2003 NLSW Main Fielding | 6,627 | 6,627 | 70 | 7,790
Re-interview | 668 | 668 | 5 | 56
Total | 6,677 | 7,345 |  | 7,904
Note: The difference between the total number of respondents and the total number of responses reflects the fact that 668 respondents will be interviewed twice once in either the pretest or the main fielding and a second time in the quality-control re-interview. An additional 58 burden hours have been included for the main fielding to account for the possibility of having to interview the 50 women selected for the pre-test again in the main fielding in the unlikely event that the pre-test fails completely.

Total Annualized Capital/Startup Costs: $0.

Total Annual Costs (operating/maintaining systems or purchasing services): $0.

Description: Under Title 29 of the United States Code, Congress authorized the Bureau of Labor Statistics of the U.S. Department of Labor (Department) to collect labor statistics. The National Longitudinal Surveys (NLS) program is part of this effort. The data collected in the 2003 National Longitudinal Survey of Women (NLSW) will contribute to the knowledge about opportunities and services for younger women who desire to enter or re-enter the labor force. The Department will use this information to help understand and explain the employment activities, unemployment problems, and retirement decisions of women. The mature women currently are ages 66-80 and young women are ages 49-60. The 2003 NLSW is the only longitudinal survey designed to measure changes in the U.S. labor market for women born in years 1922-37 or 1943-53. No other source of data provides information on the extended time period covered by the NLSW, the wide variety of variables that it contains, and the characteristics of the sample. The 2003 NLSW will expand the existing socioeconomic data bank for women.

Ira L. Mills,
Departmental Clearance Officer.

[FR Doc. 02-25378 Filed 10-4-02; 8:45 am]

BILLING CODE 4510-28-M